DEPARTMENT OF ENERGY

Federal Energy Regulatory Commission

Combined Notice of Filings #1

Take notice that the Commission received the following electric corporate filings:

Docket Numbers: EC17-68-000.

Applicants: AIA Energy North America LLC, Duquesne Light Company, Duquesne Power, LLC.

Description: Application for Authorization under Section 203 of the FPA and Request for Expedited Action, et al. of AIA Energy North America LLC, et al.

Filed Date: 1/26/17.

Accession Number: 20170126-5201.

Comments Due: 5 p.m. ET 2/16/17.

Docket Numbers: EC17-69-000.

Applicants: American Electric Power Service Corporation, Indiana Michigan Power Company.

Description: Application for Authorization under Section 203 of the FPA of American Electric Power Service Corporation, et al.

Filed Date: 1/26/17.

Accession Number: 20170126-5208.

Comments Due: 5 p.m. ET 2/16/17.

Take notice that the Commission received the following electric rate filings:

Docket Numbers: ER12-1316-003; ER11-2753-004; ER13-413-004; ER11-1933-006; ER12-1329-004; ER16-1888-003.

Applicants: Silver State Solar Power North, LLC, Cedar Point Wind, LLC, USG Oregon LLC, Green Mountain Power Corporation, Wildcat Wind Farm I, LLC, Tidal Energy Marketing Inc.

Description: Notice of Change in Status of Silver State Solar Power North, LLC, et al.

Filed Date: 1/26/17.

Accession Number: 20170126-5207.

Comments Due: 5 p.m. ET 2/16/17.

Docket Numbers: ER15-535-003.

Applicants: Nevada Power Company.

Description: Compliance filing: OATT Order No. 676-H Compliance Filing 01.25.17 to be effective 2/1/2017.

Filed Date: 1/26/17.

Accession Number: 20170126-5095.

Comments Due: 5 p.m. ET 2/16/17.

Docket Numbers: ER17-626-001.

Applicants: Long Beach Peakers LLC.

Description: Tariff Amendment: Amendment to Tariff Revision Filing to be effective 12/23/2016.

Filed Date: 1/26/17.

Accession Number: 20170126-5115.

Comments Due: 5 p.m. ET 2/16/17.

Docket Numbers: ER17-856-000.

Applicants: PJM Interconnection, L.L.C., Rockland Electric Company.

Description: § 205(d) Rate Filing: RECO Request for Increase of Annual Transmission Revenue Requirement to be effective 4/3/2017.

Filed Date: 1/26/17.

Accession Number: 20170126-5152.

Comments Due: 5 p.m. ET 2/16/17.

Docket Numbers: ER17-857-000.

Applicants: ISO New England Inc., New England Power Pool Participants Committee.

Description: § 205(d) Rate Filing: Revisions to Attach. K Related to Public Policy Trans. Study Process Timeline to be effective 3/27/2017.

Filed Date: 1/26/17.

Accession Number: 20170126-5166.

Comments Due: 5 p.m. ET 2/16/17.

Docket Numbers: ER17-858-000.

Applicants: 67RK 8me LLC.

Description: § 205(d) Rate Filing: Co-Tenancy Agreement to be effective 1/27/2017.

Filed Date: 1/26/17.

Accession Number: 20170126-5167.

Comments Due: 5 p.m. ET 2/16/17.

Docket Numbers: ER17-859-000.

Applicants: 65HK 8me LLC.

Description: § 205(d) Rate Filing: Co-Tenancy Agreement to be effective 1/27/2017.

Filed Date: 1/26/17.

Accession Number: 20170126-5168.

Comments Due: 5 p.m. ET 2/16/17.

Docket Numbers: ER17-860-000.

Applicants: 87RL 8me LLC.

Description: § 205(d) Rate Filing: Co-Tenancy Agreement to be effective 1/27/2017.

Filed Date: 1/26/17.

Accession Number: 20170126-5169.

Comments Due: 5 p.m. ET 2/16/17.

Docket Numbers: ER17-861-000.

Applicants: Midcontinent Independent System Operator, Inc.

Description: § 205(d) Rate Filing: 2017-01-27_Schedule 31 Annual Update Filing to be effective 4/1/2017.

Filed Date: 1/27/17.

Accession Number: 20170127-5029.

Comments Due: 5 p.m. ET 2/17/17.

Docket Numbers: ER17-862-000.

Applicants: Bethel Wind Farm LLC.

Description: § 205(d) Rate Filing: Amendment of Bethel Wind Farm MBR Tariff to be effective 1/28/2017.

Filed Date: 1/27/17.

Accession Number: 20170127-5031.

Comments Due: 5 p.m. ET 2/17/17.

Docket Numbers: ER17-863-000.

Applicants: Commonwealth Edison Company, PJM Interconnection, L.L.C.

Description: § 205(d) Rate Filing: Commonwealth Edison Company Submits PBOP Filing to be effective 3/27/2017.

Filed Date: 1/27/17.

Accession Number: 20170127-5034.

Comments Due: 5 p.m. ET 2/17/17.

Take notice that the Commission received the following public utility holding company filings:

Docket Numbers: PH17-7-000.

Applicants: Oaktree Capital Group, LLC.

Description: Oaktree Capital Group, LLC FERC 65-B Waiver Notification.

Filed Date: 1/26/17.

Accession Number: 20170126-5211.

Comments Due: 5 p.m. ET 2/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2017.
Nathaniel J. Davis, Sr.,
Deputy Secretary.

[FR Doc. 2017-02225 Filed 2-1-17; 8:45 am]

BILLING CODE 6717-01-P